DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration will publish periodic summaries of proposed projects. To request more information on the proposed projects or to obtain a copy of the information collection plans, call the SAMHSA Reports Clearance Officer on (301) 443-7978.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: National Outcomes Performance Assessment of the Collaborative Initiative to Help End Chronic Homelessness—(OMB No. 0930-0247; Extension, no change)—This Initiative is coordinated by the U.S. Interagency Council on the Homeless and involves the participation of three Council members: the Department of Housing and Urban Development (HUD), the Department of Health and Human Services (HHS), and the Department of Veterans Affairs (VA). Within HHS, SAMHSA's Center for Mental Health Services is the lead agency.

This project will monitor the implementation and effectiveness of the Initiative. A national assessment of client outcomes is needed to assure a high level of accountability and to identify which models work best for which people, using the same methods for all sites. To this end, this project will provide a site-by-site description of program implementation, as well as descriptive information on clients served; services received; housing quality, stability, and satisfaction; and, client outcomes in health and functional domains. The VA Northeast Program Evaluation Center (NEPEC), based at the VA Connecticut Healthcare System in West Haven, Connecticut, is responsible for conducting this project.

Data collection will be conducted over a 36-month period. At each site, a series of measures will be used to assess (1) program implementation (e.g., number and types of housing units produced and intensity and types of treatment and supportive services provided), (2) client descriptive information (e.g., demographic and clinical characteristics, and housing and treatment services received) and, (3) client outcomes.

Client outcomes will be measured using a series of structured instruments administered by evaluation personnel employed and funded by the local VA medical center or outpatient clinic involved at each Initiative site who will work closely with central NEPEC staff. Assessments will be conducted through face-to-face interviews and, when needed, telephone interviews. Interviews (approximately one hour in length) will be conducted at baseline, defined as the date of entry into the clinical treatment program leading to placement into permanent housing, and quarterly (every 3 months) thereafter for up to three years. Discharge data will be collected from program staff at the time of official discharge from the program, or when the client has not had any clinical contact from members of the program staff for at least 6 months. In addition to client interviews, key informant interviews with program managers at each site will be conducted annually.

At most Initiative sites, it is expected that more people will be screened and or evaluated for participation in the program than receive the full range of core housing and treatment services. Entry into the Initiative is conceptualized as a two-phase process involving an Outreach/Screening/Assessment Phase (Phase I), and an Active Housing Placement/Treatment Phase (Phase II) that is expected to lead to exit from homelessness; in some programs these two phases may be described as the Outreach and Case Management Phases. It will be important to have at least some minimal information on all clients so as to be able to compare those who enter Housing/Treatment with those who do not.

Client-level data at the time of first contact with the program (i.e., before the client receives more intensive treatment or housing services) will be collected using a screener form. The screener form will be completed by a member of the clinical staff when prospective clients are first told about the program, and express interest in participating in the program (i.e. when they enter Phase I). The purpose of this form is to identify the sampling frame of the evaluation at each site, or the pool of potential clients from which clients are then selected. Program implementation will be measured using a series of progress summaries.

Initiative sites will be responsible for screening potential participants, assessing homeless and disabling condition eligibility criteria for the program, and documenting eligibility as part of the national performance assessment. Each site will identify a limited number of portals of entry into the program in a relatively small geographic area, so that the evaluator can practically and systematically contact clients about participating in the evaluation. VA evaluation staff, clinical program staff, and NEPEC will work together to establish systematic procedures for assessing eligibility, enrolling clients into the Housing/Treatment Activity of the Initiative, obtaining written informed consent to participate in the national performance assessment, and other evaluation activities.

The estimated response burden to collect this information is as follows:

Respondents form name | No. of respondents | Responses per respondent | Hours per response | Total hour burden
Clients:
Baseline assessment | 1,500 | 1 | 1.50 | 2,250
Follow-up assessment | 1,500 | 8¹ | 1.25 | 15,000
Sub-total |  |  |  | 17,250
Clinicians:
Screening | 30² | 100 | 0.25 | 750
Discharge | 30³ | 13 | 0.40 | 156
Sub-total |  |  |  | 906
Administrators:
Network definition | 60 | 1 | 0.25 | 15
Network participation | 105 | 4 | 0.75 | 315
Sub-total |  |  |  | 330
Total |  |  |  | 18,486.
3-yr. Annual Avg. |  |  |  | 6,162.
¹ Assumes average follow-up period of 2 yrs. due to delayed recruitment at some sites & 20% attrition overall.
² Assumes an average of 2 screening clinicians per site, and twice the number of persons screened as enrolled.
³ Assumes an average of 2 discharge clinicians per site, and discharge rate of 25%.

Send comments to Nancy Pearce, SAMHSA Reports Clearance Officer, Room 16-105, Parklawn Building, 5600 Fishers Lane, Rockville, MD 20857. Written comments should be received by June 14, 2004.

Dated: April 6, 2004.
Anna Marsh,
Executive Officer, SAMHSA.

[FR Doc. 04-8294 Filed 4-12-04; 8:45 am]

BILLING CODE 4162-20-P